SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: November 1-30, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (f) for the time period specified above:

Water Source Approval—Issued Under 18 CFR 806.22 f):

1. Chesapeake Appalachia, L.L.C. ; Pad ID: Keeler Hollow; ABR-201009041.R2; Smithfield Township, Bradford County, Pa.; Consumptive Use of Up to 7.5000 mgd; Approval Date: November 14, 2022.

2. EXCO Resources (PA), LLC; Pad ID: Fulmer Drilling Pad #1; ABR-20100616.R2; Franklin Township, Lycoming County, Pa.; Consumptive Use of Up to 2.0000 mgd; Approval Date: November 14, 2022.

3. Repsol Oil & Gas USA, LLC; Pad ID: ABELL (05 112) G; ABR-201209002.R2; Warren Township, Bradford County, Pa.; Consumptive Use of Up to 6.0000 mgd; Approval Date: November 14, 2022.

4. Seneca Resources Company, LLC; Pad ID: Bauer 849 2022; ABR-202211001; Middlebury Township, Tioga County, Pa.; Consumptive Use of Up to 4.0000 mgd; Approval Date: November 14, 2022.

5. Chesapeake Appalachia, L.L.C.; Pad ID: Delhagen; ABR-201009066.R2; Rush Township, Susquehanna County, Pa.; Consumptive Use of Up to 7.5000 mgd; Approval Date: November 22, 2022.

6. Chesapeake Appalachia, L.L.C.; Pad ID: Driscoll; ABR-201009061.R2; Overton Township, Bradford County, Pa.; Consumptive Use of Up to 7.5000 mgd; Approval Date: November 22, 2022.

7. Coterra Energy Inc.; Pad ID: StockholmK P1; ABR-20100663.R2; Dimock Township, Susquehanna County, Pa.; Consumptive Use of Up to 5.0000 mgd; Approval Date: November 22, 2022.

8. Inflection Energy (PA) LLC; Pad ID: Fox B Well Site; ABR-201709001.R1; Shrewsbury Township, Lycoming County, Pa.; Consumptive Use of Up to 4.0000 mgd; Approval Date: November 22, 2022.

9. Seneca Resources Company, LLC; Pad ID: Erickson 448; ABR-201009050.R2; Delmar Township, Tioga County, Pa.; Consumptive Use of Up to 4.0000 mgd; Approval Date: November 22, 2022.

10. Seneca Resources Company, LLC; Pad ID: Kalke 819; ABR-201009042.R2; Chatham Township, Tioga County, Pa.; Consumptive Use of Up to 4.0000 mgd; Approval Date: November 22, 2022.

11. Seneca Resources Company, LLC; Pad ID: Lingle 1102; ABR-201009049.R2; Deerfield Township, Tioga County, Pa.; Consumptive Use of Up to 4.0000 mgd; Approval Date: November 22, 2022.

12. Seneca Resources Company, LLC; Pad ID: Owlett 843; ABR-201009058.R2; Middlebury Township, Tioga County, Pa.; Consumptive Use of Up to 4.0000 mgd; Approval Date: November 22, 2022.

13. Chesapeake Appalachia, L.L.C.; Pad ID: Bennett NMPY-38; ABR-201009069.R2; Tuscarora Township, Bradford County, Pa.; Consumptive Use of Up to 7.5000 mgd; Approval Date: November 23, 2022.

14. EQT ARO LLC; Pad ID: COP Tr 731 Pad A; ABR-201009057.R2; Cummings Township, Lycoming County, Pa.; Consumptive Use of Up to 4.0000 mgd; Approval Date: November 23, 2022.

15. Repsol Oil & Gas USA, LLC; Pad ID: Schmelzle 703; ABR-201009064.R2; Union Township, Tioga County, Pa.; Consumptive Use of Up to 6.0000 mgd; Approval Date: Nov ember 23, 2022.

16. SWN Production Company, LLC; Pad ID: FREITAG PAD; ABR-201209010.R2; Jackson Township, Susquehanna County, Pa.; Consumptive Use of Up to 4.9990 mgd; Approval Date: November 23, 2022.

17. SWN Production Company, LLC; Pad ID: MARVIN PAD; ABR-201209009.R2; Jackson Township, Susquehanna County, Pa.; Consumptive Use of Up to 4.9990 mgd; Approval Date: November 23, 2022.

18. SWN Production Company, LLC; Pad ID: SWOPE PAD; ABR-201209007.R2; Jackson Township, Susquehanna County, Pa.; Consumptive Use of Up to 4.9990 mgd; Approval Date: November 23, 2022.

19. Chesapeake Appalachia, L.L.C.; Pad ID: Balent NEW; ABR-201008149.R2; Wysox Township, Bradford County, Pa.; Consumptive Use of Up to 7.5000 mgd; Approval Date: November 29, 2022.

20. Chesapeake Appalachia, L.L.C.; Pad ID: Donna; ABR-201008096.R2; Terry Township, Bradford County, Pa.; Consumptive Use of Up to 7.5000 mgd; Approval Date: November 29, 2022.

21. Chesapeake Appalachia, L.L.C.; Pad ID: Governale; ABR-201009082.R2; Wysox Township, Bradford County, Pa.; Consumptive Use of Up to 7.5000 mgd; Approval Date: November 29, 2022.

22. Chesapeake Appalachia, L.L.C.; Pad ID: Lambert Farms; ABR-201008011.R2; Forks Township, Sullivan County, Pa.; Consumptive Use of Up to 7.5000 mgd; Approval Date: November 29, 2022.

23. Chesapeake Appalachia, L.L.C. ; Pad ID: Matt; ABR-201009073.R2; Elkland Township, Sullivan County, Pa.; Consumptive Use of Up to 7.5000 mgd; Approval Date: November 29, 2022.

24. Chesapeake Appalachia, L.L.C.; Pad ID: Rain; ABR-201009077.R2; Elkland Township, Sullivan County, Pa.; Consumptive Use of Up to 7.5000 mgd; Approval Date: November 29, 2022.

25. Chesapeake Appalachia, L.L.C.; Pad ID: Warren; ABR-201008010.R2; Windham Township, Wyoming County, Pa.; Consumptive Use of Up to 7.5000 mgd; Approval Date: November 29, 2022.

26. Seneca Resources Company, LLC; Pad ID: Pichler 1H; ABR-201509003.R1; Jay Township, Elk County, Pa.; Consumptive Use of Up to 4.0000 mgd; Approval Date: November 29, 2022.

27. SWN Production Company, LLC; Pad ID: WOOSMAN PAD; ABR-201209006.R2; New Milford Township, Susquehanna County, Pa.; Consumptive Use of Up to 6.0000 mgd; Approval Date: Nov ember 29, 2022.

28. Chesapeake Appalachia, L.L.C.; Pad ID: Boyanowski; ABR-201009076.R2; Meshoppen Township, Wyoming County, Pa.; Consumptive Use of Up to 7.5000 mgd; Approval Date: November 30, 2022.

29. Chesapeake Appalachia, L.L.C.; Pad ID: Clarke; ABR-201008145.R2; Overton Township, Bradford County, Pa.; Consumptive Use of Up to 7.5000 mgd; Approval Date: November 30, 2022.

30. Chesapeake Appalachia, L.L.C.; Pad ID: Earnshaw; ABR-201508003.R1; Mehoopany Township, Wyoming County, Pa.; Consumptive Use of Up to 7.5000 mgd; Approval Date: November 30, 2022.

31. Chesapeake Appalachia, L.L.C.; Pad ID: Foster; ABR-201009093.R2; Wysox Township, Bradford County, Pa.; Consumptive Use of Up to 7.5000 mgd; Approval Date: November 30, 2022.

32. Chesapeake Appalachia, L.L.C.; Pad ID: Hope; ABR-201009102.R2; Meshoppen Township, Wyoming County, Pa.; Consumptive Use of Up to 7.5000 mgd; Approval Date: November 30, 2022.

33. Chesapeake Appalachia, L.L.C.; Pad ID: Scheffler; ABR-201007102.R2; Standing Stone Township, Bradford County, Pa.; Consumptive Use of Up to 7.5000 mgd; Approval Date: November 30, 2022.

34. Chesapeake Appalachia, L.L.C.; Pad ID: Van DeMark; ABR-201007106.R2; Windham Township, Wyoming County, Pa.; Consumptive Use of Up to 7.5000 mgd; Approval Date: November 30, 2022.

Authority: Public Law 91-575, 84 Stat. 1509 et seq., 18 CFR parts 806 and 808.

Dated: December 20, 2022.
Jason E. Oyler,
General Counsel and Secretary to the Commission.

[FR Doc. 2022-28056 Filed 12-23-22; 8:45 am]

BILLING CODE 7040-01-P